DEPARTMENT OF AGRICULTURE

Forest Service

RIN 0596-AD33

Information Collection; Oil and Gas Resources

AGENCY: Forest Service, Agriculture (USDA).

ACTION: Notice; request for comment.

SUMMARY: In accordance with the Paperwork Reduction Act of 1995, the Forest Service is seeking comments from all interested individuals and organizations on the re-instatement of the information collection for Oil and Gas Resources, 0596-0101.

DATES: Comments must be received in writing on or before April 10, 2023 to be assured of consideration. Comments received after that date will be considered to the extent practicable.

ADDRESSES: Comments concerning this notice should be addressed to USDA-Forest Service. Attn: Director-Minerals and Geology Management, 1617 Cole Boulevard, Building 17, Lakewood, CO 80401. Comments also may be submitted via facsimile to 303-275-5122 or Electronically: Via the Federal eRulemaking Portal: https://www.regulations.gov, 0596-AD33.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may request an electronic copy of the draft supporting statement and/or any comments received be sent via return email. Requests should be emailed to the contact listed in FOR FURTHER INFORMATION CONTACT.

FOR FURTHER INFORMATION CONTACT: Sherri Thompson, Assistant Director Leasable Minerals, at 303-275-5147 or by mail at 1617 Cole Boulevard, Building 17, Lakewood, CO 80401. Individuals who use telecommunication devices for the deaf (TDD) may call the Federal Information Relay Service (FIRS) at 800-877-8339 twenty-four hours a day, every day of the year, including holidays.

SUPPLEMENTARY INFORMATION:

Title: Oil and Gas Resources, 36 CFR part 228, subpart E.

OMB Number: 0596-0101.

Expiration Date of Approval: Three years from final approval.

Type of Request: Reinstatement.

Abstract: The current rule contains procedures the Forest Service, USDA will use to accomplish the purposes of the Federal Onshore Oil and Gas Leasing Reform Act of 1987, and other applicable mineral leasing and environmental protection statutes, in offering oil and gas leases and managing the development of oil and gas resources on National Forest System lands. The Leasing Reform Act authorizes the Secretary of Agriculture to develop procedures and regulations governing leasing for oil and gas resources. including bonding and reclamation requirements, within the National Forest System. This authority was formerly exercised by the Bureau of Land Management. These regulations achieve our primary objectives of ensuring effective compliance with all applicable environmental protection statutes, as most recently construed by the Federal Courts, in conjunction with meeting the intent of Congress codified in the Leasing Reform Act. These regulations have been designed to work in coordination with similar regulations of the Department of the Interior, and to promote a cooperative process between the Federal agencies, the oil and gas industry, and members of the public who are interested in the management of Federal lands and resources.

Estimate of Annual Burden: 30 Minutes.

Type of Respondents: Public.

Estimated Annual Number of Respondents: 2,250.

Estimated Annual Number of Responses per Respondent: 2,250.

Estimated Total Annual Burden on Respondents: 1,125 hours.

Comment Is Invited

Comment is invited on: (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Date: February 2, 2023.
Troy Heithecker,
Associate Deputy Chief, National Forest System.

[FR Doc. 2023-02663 Filed 2-8-23; 8:45 am]

BILLING CODE 3411-15-P